FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington, DC 20551-0001, not later than November 25, 2019.

A. Federal Reserve Bank of Dallas (Robert L. Triplett III, Senior Vice President) 2200 North Pearl Street, Dallas, Texas 75201-2272:

1. Mary Hyden Hunter, Canyon Lake, Texas and David Perry Mann, II, Denver, Colorado; as a group acting in concert to acquire voting shares of RAM Security Holdings GP, Inc., Waco, Texas, and thereby indirectly acquire voting shares of RAM Security Holdings, Ltd. and Security Bancshares, Inc., both of Waco, Texas, and Citizens State Bank, Woodville, Texas.

Board of Governors of the Federal Reserve System, October 18, 2019.
Michele Taylor Fennell,
Assistant Secretary of the Board.

[FR Doc. 2019-23109 Filed 10-22-19; 8:45 am]

BILLING CODE 6210-01-P